DEPARTMENT OF HEALTH AND HUMAN SERVICES

Administration for Community Living

Announcing the Intent To Award a Single-Source Supplement the Link Center: Bridging Intellectual and/or Developmental Disabilities (I/DD) and Mental Health Systems Cooperative Agreement

ACTION: Notice.

SUMMARY: The Administration for Community Living (ACL) announces the intent to award a single-source supplement to the current cooperative agreement held by the National Association for State Directors of Developmental Disabilities Services (NASDDDS) for the Link Center: Bridging I/DD and Mental Health Systems cooperative agreement. The purpose of this project is to improve the quality of life for people with intellectual and/or developmental disabilities (I/DD) and mental health conditions by supporting state agencies with policy development, service design, and service coordination resources, and sharing resources to individuals, families, direct support professionals, clinicians, and other policymakers. The administrative supplement for FY 2023 will amount to $540,000, bringing the total award for FY 2023 to $1,214,978.

FOR FURTHER INFORMATION CONTACT: For further information or comments regarding this program supplement, contact Allison Cruz, U.S. Department of Health and Human Services, Administration for Community Living, Administration on Disabilities, (202) 795-7334 or via email allison.cruz@acl.hhs.gov.

SUPPLEMENTARY INFORMATION: This supplementary funding from the Substance Abuse and Mental Health Services Administration (SAMHSA) will expand The Link Center: Bridging I/DD and Mental Health Systems by coordinating, planning, and implementing activities to support 988 call centers to support people with I/DD and mental health conditions. A key activity will be the 988 Policy Academy. As a result of this funding, ACL and SAMHSA expect that:

• Up to 6 States will improve their systems to more effectively address the needs of individuals with I/DD and mental health conditions.

• Targeted State teams will have engaged in six (6) virtual learning engagements and participated in a two-day session to finalize actions steps. These States will receive follow-along supports towards implementations and sustainability activities to more effectively address the needs of individuals with I/DD and mental health conditions.

This supplement will fund the following.

Academy Structure

Membership

The policy academy will be open to 5-6 states. Each state will bring a team of partners, including:

• SAMHSA 988 Office and CMHS leadership and/or key staff, including the representatives from the Lifeline network administrator

• State mental health authority leadership and core staff involved in 988 and Crisis Response

• State I/DD authority leadership and core staff involved in supporting individuals with complex support needs

• State Medicaid leader(s) with knowledge and oversight of MH and/or LTSS

• State Head Injury Administrators/core staff or partner organizations

• People with lived experience

• One or more State DD Act Partner organizations (DD Councils, UCEDDs, Protection and Advocacy Organizations)

• Leadership from the National Association of County Behavioral Health & Developmental Disability Directors

Optional:

• Child welfare officials, especially those supporting children with complex support needs

• Law enforcement

• Other partners as determined by the state

Each team should be led by 2-3 individuals from State Mental Health, 988/Lifeline and I/DD Agencies. Each state team may consist of 8-10 individuals. Team composition should reflect a lens toward ensuring that the state-level solutions will be informed by diversity, equity, and inclusion. States may include team members that are key to building a responsive network of information sharing, potential warm hand-offs, and available supports.

Approach

Exploratory survey/Environmental scan:

• Prior to selection of state participants, collect information related to general areas of need that will inform and give an aggregate scope of focus for succeeding academy activities

State Tailored Interventions:

• State specific planning meetings with state leads

• Convene state-level (virtual) town hall discussions to provide landscape information on areas of need

• Develop target areas for state team

Virtual Learning Opportunities:

• Based on state target areas, develop series of six (6) virtual learning engagements for cross-state participation (identifying peers for both elevation of good practice and group solution identification)

In Person Academy:

• Convene a two-day symposium in the Washington DC area focused on cultivating sustainable networks and ongoing information sharing (Strongly encourage in-person participation, accommodate virtual if needed). Will include group learning and state-specific breakout sessions to optimize learning, sharing and action plan development.

○ Will include pre-planning with each state (two meetings)

○ Will include post-meeting follow up activities, including plan for implementation and sustainability

Post Meeting Activities and Follow-Along Technical Assistance:

• TA Collaborative will meet with state teams to finalize action steps developed from in person meeting;

• TA Collaborative will meet monthly with state teams to provide follow-along support toward implementation and sustainability activities.

• A post convening synthesis will be developed as a resource for partners engaged in this work.

Program Name: The Link Center: Bridging I/DD and Mental Health Systems.

Recipient: The National Association of State Directors of Developmental Disabilities Services.

Period of Performance: The supplement award will be issued for the second year of the five-year project period of September 30, 2023, through August 31, 2024.

Total Supplement Award Amount: $540,000.

Award Type: Cooperative Agreement.

Statutory Authority: This program is authorized under the Developmental Disabilities Assistance and Bill of Rights Act of 2000 Public Law 106-402, section 161(2)(B), (C), and (D).

Basis for Award: The National Association of State Directors of Developmental Disabilities Services is currently funded to carry out The Link Center Project for the period of September 1, 2022, through August 31, 2027. Much work has already been completed and further tasks are currently being accomplished. It would be unnecessarily time consuming and disruptive to the Link Center project and the beneficiaries being served for ACL to establish a new grantee at this time when critical services are presently being provided in an efficient manner. SAMHSA also has determined that the award of another contract or grant to provide these services would duplicate the activities carried out under this cooperative agreement. SAMHSA has further determined that a grant supplement to support the 988 State Policy Academy through this cooperative agreement is likely to be less expensive than a separate arrangement. This agreement promotes government efficiency and reduces the possibility of costly duplication of effort.

Dated: September 21, 2023.
Alison Barkoff,
Senior Official Performing the Duties of the Administrator and the Assistant Secretary for Aging.

[FR Doc. 2023-21046 Filed 9-26-23; 8:45 am]

BILLING CODE 4154-01-P